DEPARTMENT OF COMMERCE

National Oceanic and Atmospheric Administration

[I.D. 020107B]

Magnuson-Stevens Act Provisions; General Provisions for Domestic Fisheries; Application for Exempted Fishing Permits (EFPs)

AGENCY: Department of Commerce, National Oceanic and Atmospheric Administration (NOAA), National Marine Fisheries Service (NMFS).

ACTION: Notification of a proposal for an EFP to conduct experimental fishing; request for comments.

SUMMARY: The Administrator, Northeast Region, NMFS (Regional Administrator) has made a preliminary determination that the subject EFP application from the University of New England (UNE) that would allow Northeast multispecies vessels to possess spiny dogfish for a spiny dogfish life history study contains all the required information and warrants further consideration. The Regional Administrator has also made a preliminary determination that the activities authorized under the EFP would be consistent with the goals and objectives of the Spiny Dogfish Fishery Management Plan (FMP). However, further review and consultation may be necessary before a final determination is made.

DATES: Comments on this document must be received on or before February 21, 2007.

ADDRESSES: Comments may be submitted by e-mail. The mailbox address for providing e-mail comments is DA7-25@noaa.gov. Include in the subject line of the e-mail comment the following document identifier: “Comments on UNE dogfish possession EFP proposal.” Written comments should be sent to Patricia A. Kurkul, Regional Administrator, NMFS, Northeast Regional Office, 1 Blackburn Drive, Gloucester, MA 01930. Mark the outside of the envelope, “Comments on UNE dogfish possession EFP proposal” Comments may also be sent via facsimile (fax) to (978) 281-9135.

FOR FURTHER INFORMATION CONTACT: Ryan Silva, Fishery Management Specialist, phone: 978-281-9326, fax: 978-281-9135.

SUPPLEMENTARY INFORMATION: The FMP implemented a semi-annual quota. When a semi-annual quota is projected to be harvested, NMFS closes the fishery until the next semi-annual quota opens. During a dogfish closure, no vessel may fish for or possess dogfish. The dogfish fishery was closed on December 19, 2006 (71 FR 76222), and will not re-open until May 1, 2007. As part of a continuing research project, UNE, in collaboration with the University of New Hampshire (UNH), is investigating Gulf of Maine dogfish age and growth, and size at sexual maturity characteristics. The applicant states that current dogfish life history data need updating, particularly in light of recent stock declines and potential regional variability in life history traits. The project investigators are attempting to develop a more accurate aging tool, which will improve age and size at sexual maturity determinations. The applicant notes that these data will provide critical life history information needed for effective dogfish management decisions, particularly for the Gulf of Maine.

The applicant would start collecting dogfish samples upon approval of the EFP and continue through June, 2007. The applicant would collect 15 dogfish per gender per 5-cm size class (<35 cm - >100 cm), for a total of 450 dogfish. Samples would be collected during commercial NE multispecies fishing trips in areas open to commercial NE multispecies regulations in statistical areas 125 and 132. Vessels would be fishing with otter trawl and gill net gear that is fully compliant with NE multispecies regulations. The applicant has indicated that up to 50 dead dogfish would be kept each trip, and that dogfish will not be targeted during the fishing trips. All live dogfish bycatch would be returned to the ocean as quickly as possible; only dead dogfish would be retained.

If approved, participating vessels would not be allowed to possess or retain more than 50 dogfish on any trip, and no dogfish may be sold.

Regulations under the Magnuson-Stevens Fishery Conservation and Management Act require publication of this notification to provide interested parties the opportunity to comment on applications for proposed EFPs. The applicant may place requests for minor modifications and extensions to the EFP throughout the year. EFP modifications and extensions may be granted without further notice if they are deemed essential to facilitate completion of the proposed research and minimal so as not to change the scope or impact of the initially approved EFP request.

Authority: 16 U.S.C. 1801 et seq.

Dated: February 1, 2007.
James P. Burgess,
Acting Director, Office of Sustainable Fisheries, National Marine Fisheries Service.

[FR Doc. E7-1850 Filed 2-5-07; 8:45 am]

BILLING CODE 3510-22-S